DEPARTMENT OF THE INTERIOR

Bureau of Reclamation

Glen Canyon Dam Adaptive Management Work Group (AMWG);, and Glen Canyon Technical Work Group (TWG); Notice of Meeting

AGENCY: Bureau of Reclamation, Interior.

ACTION: Notice of Public Meetings.

SUMMARY: The Adaptive Management Program (AMP) was implemented as a result of the Record of Decision on the Operation of Glen Canyon Dam Final Environmental Impact Statement to comply with consultation requirements of the Grand Canyon Protection Act (Pub. L. 102-575) of 1992. The AMP provides an organization and process to ensure the use of scientific information in decision making concerning Glen Canyon Dam operations and protection of the affected resources consistent with the Grand Canyon Protection Act. The AMP has been organized and includes a federal advisory committee (the AMWG), a technical work group (the TWG), a monitoring and research center, and independent review panels. The TWG is a subcommittee of the AMWG and provides technical advice and information for the AMWG to act upon.

DATES AND LOCATION: The Glen Canyon Dam Adaptive Management Work Group will conduct the following public meeting.

Phoenix, Arizona—September 24-25, 2001. The meeting will begin at 9:30 a.m. and conclude at 5 p.m. on the first day and will begin at 8 a.m. and conclude at 12 noon on the second day. The meeting will be held at the Bureau of Indian Affairs, Western Regional Office, 2 Arizona Center, Conference Rooms A and B (12th floor), 400 North 5th Street, Phoenix, Arizona.

Agenda: The purpose of the meeting will be to approve the Strategic Plan, and discuss the following: FY 2003 budget, basin hydrology, Protocol Evaluation Panel (PEP) recommendations, environmental compliance, and other administrative and resource issues pertaining to the AMP.

DATES AND LOCATION: The Glen Canyon Dam Technical Work Group will conduct the following public meeting.

Phoenix, Arizona—September 6-7, 2001. The meeting will begin at 9:30 a.m. and conclude at 5 p.m. on the first day and will begin at 8 a.m. and conclude at 12 noon on the second day. The meeting will be held at the Bureau of Indian Affairs, Western Regional Office, 2 Arizona Center, Conference Rooms A and B (12th floor), 400 North 5th Street, Phoenix, Arizona.

Agenda: The purpose of the meeting will be to discuss the following: FY 2003 work plans, the Automated Generation Control (AGC) Report, results from the Information Needs Workshop, experimental flows, basin hydrology, LIDAR plans, Protocol Evaluation panel (PEP) recommendations, environmental compliance, appraisal of California power situation, nomination of new TWG Chairperson, and other administrative and resource issues pertaining to the AMP.

Agenda items may be revised prior to any of the meetings. Final agendas will be posted 15 days in advance of each meeting and can be found on the Bureau of Reclamation website under Environmental Programs at: http://www.uc.usbr.gov. Time will be allowed on each agenda for any individual or organization wishing to make formal oral comments (limited to 10 minutes) at the meetings.

ADDRESSES: To allow full consideration of information by the AMWG and TWG members, written notice must be provided to Randall Peterson, Bureau of Reclamation, Upper Colorado Regional Office, 125 South State Street, Room 6107, Salt Lake City, Utah 84138; E-mail at rpeterson@uc.usbr.gov at least FIVE (5) days prior to the meeting. Any written comments received will be provided to the AMWG and TWG members at the meetings.

FOR FURTHER INFORMATION CONTACT: Randall Peterson, telephone (801) 524-3758; faxogram (801) 524-3858; rpeterson@uc.usbr.gov.

Dated: July 31, 2001.
Rick L. Gold,
Regional Director.

[FR Doc. 01-20876 Filed 8-17-01; 8:45 am]

BILLING CODE 4310-MN-M